DEPARTMENT OF TRANSPORTATION

Federal Aviation Administration

14 CFR Parts 401, 404, 413, 414, 415, 417, 420, 431, 433, 435, 437, 440, and 450

[Docket No.: FAA-2019-0229]

Streamlined Launch and Reentry Licensing Requirements; Notice of Availability and Extension of Comment Period

AGENCY: Federal Aviation Administration (FAA), DOT.

ACTION: Notice of availability; extension of comment period.

SUMMARY: The FAA announces the availability of the FAA's first set of clarifications to commenters' questions regarding the Notice of Proposed Rulemaking (NPRM) entitled “Streamlined Launch and Reentry Licensing Requirements,” which published in the Federal Register on April 15, 2019; a due date for submitting clarifying questions; and an extension of the comment period to allow commenters sufficient time to review the FAA's clarifications.

DATES: The comment period for the proposed rule published on April 15, 2019 at 84 FR 15296 is extended from July 30, 2019, to August 19, 2019.

ADDRESSES: You may send comments identified by docket number FAA-2019-0229 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE, Washington, DC, between 9 a.m. and 5 p.m., Monday through Friday, except Federal holidays.

FOR FURTHER INFORMATION CONTACT: For questions concerning this action, contact Randy Repcheck, Office of Commercial Space Transportation, Federal Aviation Administration, 800 Independence Avenue SW, Washington, DC 205914; telephone (202) 267-8760; email Randy.Repcheck@faa.gov.

SUPPLEMENTARY INFORMATION:

Background

On April 15, 2019, the FAA published a Notice of Proposed Rulemaking (NPRM) entitled “Streamlined Launch and Reentry Licensing Requirements (SLR2).” ¹ In that NPRM, the FAA proposed streamlining and increasing flexibility in the FAA's commercial space regulations and removing obsolete requirements. The action would consolidate and revise multiple regulatory parts and apply a single set of licensing and safety regulations across several types of operations and vehicles. The proposed rule would describe the requirements to obtain a vehicle operator license, the safety requirements, and the terms and conditions of a vehicle operator license.

¹ 84 FR 15296 (April 15, 2019).

Subsequent to its publication, the FAA received requests from the industry to hold a public meeting or reconvene the SLR2 Aviation Rulemaking Committee, as a means to further engage with the industry regarding the NPRM. In response, on June 14, 2019, the FAA posted a document to the docket entitled, “Ex Parte Correspondence to Michael Lopez-Algeria, MLA Space, LLC.” ² In this document, the FAA stated that, in place of a public meeting, it will accept written questions seeking clarification on specific parts of the NPRM.

² FAA-2019-0229-0088.

Notice of Availability

The FAA has received questions seeking clarification from several entities. The FAA has reviewed the questions it has received to date and, on July 16, 2019, posted its first set of clarifying responses to the docket. The FAA notes that it has responded to those questions for which clarification was appropriate. The FAA concluded that some questions constituted comments to the proposal, and it will consider those comments in the development of the final rule. The FAA may post additional clarifications between now and the close of the comment period, as appropriate, and advises commenters to review the docket periodically for these clarifications.

Due Date for Submitting Clarifying Questions

The deadline for submitting clarifying questions is July 29, 2019.

Extension of the Comment Period

The FAA recognizes that the public will benefit from adequate time to review the FAA's clarifications. Therefore, in accordance with § 11.47(c) of Title 14, Code of Federal Regulations, the FAA is extending the comment period for an additional 20 days to August 19, 2019.

Accordingly, the comment period for Notice No. 19-01 is extended until August 19, 2019.

Issued in Washington, DC, on July 16, 2019.
Brandon Roberts,
Acting Executive Director, Office of Rulemaking.

[FR Doc. 2019-15465 Filed 7-19-19; 8:45 am]

BILLING CODE 4910-13-P